DEPARTMENT OF COMMERCE

International Trade Administration

[A-570-985]

Xanthan Gum From the People's Republic of China: Notice of Court Decision Not in Harmony With the Results of Antidumping Duty Administrative Review; Notice of Amended Final Results

AGENCY: Enforcement and Compliance, International Trade Administration, Department of Commerce.

SUMMARY: On July 29, 2024, the U.S. Court of International Trade (CIT) issued its final judgment in Meihua Group International Trading (Hong Kong) Limited v. United States, Consol. Court no. 22-00069, sustaining the U.S. Department of Commerce's (Commerce) second remand results pertaining to the administrative review of the antidumping duty (AD) order on xanthan gum from the People's Republic of China covering the period of review (POR) July 1, 2019, through June 30, 2020. Commerce is notifying the public that the CIT's final judgment is not in harmony with Commerce's final results of the administrative review, and that Commerce is amending the final results with respect to the dumping margins assigned to Meihua Group International Trading (Hong Kong) Limited/Langfang Meihua Biotechnology Co., Ltd./Xinjiang Meihua Amino Acid Co., Ltd (collectively, Meihua), Jianlong Biotechnology Co., Ltd. (formerly, Inner Mongolia Jianlong Biochemical Co., Ltd) (Jianlong), and Deosen Biochemical (Ordos) Ltd.

DATES: Applicable July 29, 2024.

FOR FURTHER INFORMATION CONTACT: Reginald Anadio or Benjamin Blythe, AD/CVD Operations, Office IV, Enforcement and Compliance, International Trade Administration, U.S. Department of Commerce, 1401 Constitution Avenue NW, Washington, DC 20230; telephone: (202) 482-3166 and (202) 482-3457, respectively.

SUPPLEMENTARY INFORMATION:

Background

On February 8, 2022, Commerce published its final results in the 2019-2020 AD review of xanthan gum from the People's Republic of China. Commerce calculated a weighted-average dumping margin of 154.07 percent for Meihua, a weighted-average dumping margin of 0.00 percent for Neimenggu Fufeng Biotechnologies Co., Ltd. (aka Inner Mongolia Fufeng Biotechnologies Co., Ltd.)/Shandong Fufeng Fermentation Co., Ltd./Xinjiang Fufeng Biotechnologies Co., Ltd (collectively, Fufeng), and review-specific average rates of 77.04 percent for Jianlong and Deosen Biochemical (Ordos) Ltd./Deosen Biochemical Ltd (collectively, Deosen).¹

¹ See Xanthan Gum From the People's Republic of China: Final Results of Antidumping Duty Administrative Review and Final Determination of No Shipments; 2019-2020, 87 FR 7104 (February 8, 2022) (Final Results).

Meihua, Deosen, and Jianlong appealed Commerce's Final Results. On April 19, 2023, the CIT remanded the Final Results to Commerce, ordering Commerce to reconsider: (1) the application of adverse facts available (AFA) to Meihua; (2) the calculation of the separate rate; and (3) whether Deosen Biochemical Ltd. and Deosen Biochemical (Ordos) Ltd. should be collapsed into a single entity.²

² See Meihua Group Int'l Trading (Hong Kong) Ltd. v. United States, 633 F. Supp. 3d 1203 (CIT 2023).

In its first remand redetermination, issued in June 2023, Commerce found that: (1) its application of AFA to Meihua was appropriate; (2) Commerce's decision to not rescind its review of Deosen Biochemical Ltd. was proper because it continued to find it to be collapsed with Deosen Biochemical (Ordos) Ltd.; and (3) Commerce did not need to recalculate the separate rate.³ The CIT remanded for a second time, ordering Commerce to reconsider: (1) the application of facts otherwise available and total AFA to Meihua; (2) the calculation of the separate rate; (3) whether Deosen Biochemical Ltd. and Deosen Biochemical (Ordos), Ltd. should be collapsed into a single entity; and (4) whether the review of Deosen Biochemical Ltd. should be rescinded.⁴

³ See Final Results of Redetermination Pursuant to Court Remand, Meihua Group International Trading (Hong Kong) Limited v. United States, Consol. Court No. 22-00069 (CIT April 19, 2023), dated June 27, 2023, available at https://access.trade.gov/resources/remands/23-53.pdf.

⁴ See Meihua Group International Trading (Hong Kong) Limited v. United States, 686 F. Supp. 3d 1359 (CIT 2024).

In its final remand redetermination, issued in May 2024, Commerce found that: (1) a rate of zero percent is applicable for Meihua for the POR; (2) the separate rate is now calculated at zero percent for the POR; (3) Deosen Biochemical Ltd. and Deosen Biochemical (Ordos) Ltd. did not comprise a single entity during the POR; and (4) the 2019-2020 administrative review for Deosen Biochemical Ltd. should be rescinded.⁵ The CIT sustained Commerce's final redetermination.⁶

⁵ See Final Results of Redetermination Pursuant to Court Remand, Meihua Group International Trading (Hong Kong) Limited v. United States, Consol. Court No. 22-00069 (CIT April 19, 2023), dated May 22, 2024, available at https://access.trade.gov/Resources/remands/23-53.pdf.

⁶ See Meihua Group International Trading (Hong Kong) Limited v. United States, Consol. Court No. 22-00069, Slip Op. 24-86 (CIT July 29, 2024).

Timken Notice

In its decision in Timken,⁷ as clarified by Diamond Sawblades,⁸ the U.S. Court of Appeals for the Federal Circuit held that, pursuant to section 516A(c) and (e) of the Tariff Act of 1930, as amended (the Act), Commerce must publish a notice of court decision that is not “in harmony” with a Commerce determination and must suspend liquidation of entries pending a “conclusive” court decision. The CIT's July 29, 2024, judgment constitutes a final decision of the CIT that is not in harmony with Commerce's Final Results. Thus, this notice is published in fulfillment of the publication requirements of Timken.

⁷ See Timken Co. v. United States, 893 F.2d 337 (Fed. Cir. 1990) (Timken).

⁸ See Diamond Sawblades Manufacturers Coalition v. United States, 626 F.3d 1374 (Fed. Cir. 2010) (Diamond Sawblades).

Amended Final Results

Because there is now a final court judgment, Commerce is amending its Final Results with respect to Meihua, Jianlong, and Deosen Biochemical (Ordos) Ltd. as follows:

Exporter | Weighted- average dumping margin (percent)
Meihua Group International Trading (Hong Kong) Limited/Langfang Meihua Biotechnology Co., Ltd./Xinjiang Meihua Amino Acid Co., Ltd | 0.00
Review-Specific Average Rate Applicable to the Following Companies:
Jianlong Biotechnology Co., Ltd. (formerly, Inner Mongolia Jianlong Biochemical Co., Ltd) | 0.00
Deosen Biochemical (Ordos) Ltd | 0.00

We note that Fufeng's rate of zero percent remains unchanged from the Final Results as its rate was not subject to litigation. In addition, the review for Deosen Biochemical Ltd. is now rescinded.

Cash Deposit Requirements

Because Meihua, Deosen Biochemical (Ordos) Ltd., and Jianlong have a superseding cash deposit rate, i.e., there have been final results published in a subsequent administrative review, we will not issue revised cash deposit instructions to U.S. Customs and Border Protection (CBP). This notice will not affect the current cash deposit rate.

Liquidation of Suspended Entries

At this time, Commerce remains enjoined by CIT order from liquidating entries that: were produced and/or exported by Meihua, Deosen Biochemical (Ordos) Ltd., and Jianlong and were entered, or withdrawn from warehouse, for consumption during the period July 1, 2019, through June 30, 2020. These entries will remain enjoined pursuant to the terms of the injunction during the pendency of any appeals process.

In the event the CIT's ruling is not appealed, or, if appealed, upheld by a final and conclusive court decision, Commerce intends to instruct CBP to assess antidumping duties on unliquidated entries of subject merchandise produced and/or exported by Meihua, Deosen Biochemical (Ordos) Ltd., and Jianlong in accordance with 19 CFR 351.212(b). We will instruct CBP to assess antidumping duties on all appropriate entries covered by this review when the importer-specific ad valorem assessment rate is not zero or de minimis. Where an import-specific ad valorem assessment rate is zero or de minimis,⁹ we will instruct CBP to liquidate the appropriate entries without regard to antidumping duties.

⁹ See 19 CFR 351.106(c)(2).

Notification to Interested Parties

This notice is issued and published in accordance with sections 516A(c) and (e) and 777(i)(1) of the Act.

Dated: August 15, 2024.
Abdelali Elouaradia,
Deputy Assistant Secretary for Enforcement and Compliance.

[FR Doc. 2024-18719 Filed 8-20-24; 8:45 am]

BILLING CODE 3510-DS-P